DEPARTMENT OF DEFENSE

Defense Acquisition Regulations System

[Docket Number DARS-2024-0006; OMB Control Number 0750-0004]

Information Collection Requirement; Defense Federal Acquisition Regulation Supplement; Assessing Contractor Implementation of Cybersecurity Requirements

AGENCY: Defense Acquisition Regulations System, Department of Defense (DoD).

ACTION: Notice.

SUMMARY: The Defense Acquisition Regulations System has submitted to OMB for clearance the following proposal for collection of information under the provisions of the Paperwork Reduction Act.

DATES: Consideration will be given to all comments received by June 27, 2024.

ADDRESSES: Written comments and recommendations for the proposed information collection should be sent within 30 days of publication of this notice to https://www.reginfo.gov/public/do/PRAMain. Find this particular information collection by selecting “Currently under 30-day Review—Open for Public Comments” or by using the search function.

You may also submit comments, identified by docket number and title, by the following method: Federal eRulemaking Portal: https://www.regulations.gov. Follow the instructions for submitting comments.

FOR FURTHER INFORMATION CONTACT: Tucker Lucas, 571-372-7574, or whs.mc-alex.esd.mbx.dd-dod-information-collections@mail.mil.

SUPPLEMENTARY INFORMATION:

Title and OMB Number: Defense Federal Acquisition Regulation Supplement (DFARS); Part 204 and Related Clauses, Assessing Contractor Implementation of Cybersecurity Requirements, OMB Control Number 0750-0004.

Type of Request: Extension of a currently approved collection.

Affected Public: Businesses or other for-profit and not-for-profit institutions.

Respondent's Obligation: Required to obtain or retain benefits.

Frequency: At least annually.

Number of Respondents: 11,686.

Responses Per Respondent: 1.02, approximately.

Annual Responses: 11,977.

Average Burden Per Response: 4.92 hours.

Annual Burden Hours: 58,885.

Needs and Uses: The collection of information is necessary for DoD to assess where vulnerabilities exist in its supply chain and take steps to correct such deficiencies. In addition, the collection of information is necessary to ensure defense industrial base contractors that have not fully implemented the National Institute of Standards and Technology (NIST) Special Publication (SP) 800-171 security requirements pursuant to the clause at DFARS 252.204-7012 begin correcting these deficiencies immediately.

This requirement supports implementation of section 1648 of the National Defense Authorization Act for Fiscal Year 2020 (Pub. L. 116-92). Section 1648(c)(2) directs the Secretary of Defense to develop a risk-based cybersecurity framework for the defense industrial base sector as the basis for a mandatory DoD standard.

This requirement is implemented in the Defense Federal Acquisition Regulation Supplement (DFARS) through the solicitation provision at 252.204-7019, Notice of NIST SP 800-171 DoD Assessment Requirement, and the contract clause at 252.204-7020, NIST SP 800-171 DoD Assessment Requirements.

This clearance covers the following requirements:

• DFARS 252.204-7019, Notice of NIST SP 800-171 DoD Assessment Requirement, is prescribed for use in all solicitations, including solicitations using FAR part 12 procedures for the acquisition of commercial products and commercial services, except for solicitations solely for the acquisition of commercially available off-the-shelf (COTS) items. Per the provision, if an offeror is required to have implemented NIST SP 800-171 per DFARS clause 252.204-7012, then the offeror shall have a current assessment for each covered contractor information system that is relevant to the offer, contract, task order, or delivery order in order to be considered for award.

• DFARS 252.204-7020, NIST SP 800-171 DoD Assessment Requirements, is prescribed for use in in all solicitations and contracts, including solicitations and contracts using FAR part 12 procedures for the acquisition of commercial products and commercial services, except for solicitations and contracts solely for the acquisition of COTS items. The clause requires the contractor to provide the Government access to its facilities, systems, and personnel in order to conduct a Medium Assessment or High Assessment, if necessary. Medium Assessments are assumed to be conducted by DoD Components, primarily by program management office cybersecurity personnel, in coordination with the Defense Contract Management Agency's DCMA's Defense Industrial Base Cybersecurity Assessment Center (DIBCAC), as part of a separately scheduled visit (e.g., for a critical design review). High Assessments will be conducted by, or in conjunction with, DCMA's DIBCAC. DoD may choose to conduct a Medium Assessment or High Assessment when warranted based on the criticality of the program(s)/technology(ies) associated with the contracted effort(s). For example, a Medium Assessment may be initiated by a program office who has determined that the risk associated with their programs warrants going beyond the Basic self-assessment. The results of that Medium Assessment may satisfy the program office or may indicate the need for a High Assessment.

DoD Clearance Officer: Mr. Tucker Lucas. Requests for copies of the information collection proposal should be sent to Mr. Lucas at whs.mc-alex.esd.mbx.dd-dod-information-collections@mail.mil.

Jennifer D. Johnson,
Editor/Publisher, Defense Acquisition Regulations System.

[FR Doc. 2024-11626 Filed 5-24-24; 8:45 am]

BILLING CODE 6001-FR-P